NUCLEAR REGULATORY COMMISSION

[NRC-2009-0556]

Notice of Issuance of Regulatory Guide

AGENCY: Nuclear Regulatory Commission.

ACTION: Notice of Issuance and Availability of Regulatory Guide 8.35, Revision 1, “Planned Special Exposure.”

FOR FURTHER INFORMATION CONTACT: R. A. Jervey, Regulatory Guide Development Branch, Division of Engineering, Office of Nuclear Regulatory Research, U.S. Nuclear Regulatory Commission, Washington, DC 20555-0001, telephone (301) 251-7404 or e-mail RAJ@nrc.gov.

SUPPLEMENTARY INFORMATION:

I. Introduction

The U.S. Nuclear Regulatory Commission (NRC) is issuing a revision to an existing guide in the agency's “Regulatory Guide” series. This series was developed to describe and make available to the public information such as methods that are acceptable to the NRC staff for implementing specific parts of the agency's regulations, techniques that the staff uses in evaluating specific problems or postulated accidents, and data that the staff needs in its review of applications for permits and licenses.

Revision 1 of Regulatory Guide 8.35, “Planned Special Exposure,” was issued with a temporary identification as Draft Regulatory Guide, DG-8032. This regulatory guide provides guidance on the conditions and prerequisites for permitting planned special exposure(s) (PSE(s)), as allowed by Title 10 of the Code of Federal Regulations (10 CFR) Part 20, “Standards for Protection Against Radiation,” the associated specific monitoring and reporting requirements, and examples of acceptable means of satisfying these requirements.

Dose limits are established in 10 CFR 20.1201, “Occupational Dose Limits for Adults.” Section 10 CFR 20.1206, “Planned Special Exposures,” provides the conditions and limits for PSEs of adult workers (i.e. radiation doses in addition to and accounted for separately from the doses received under the limits specified in 10 CFR 20.1201). In addition, 10 CFR 20.2104, “Notification of Prior Occupational Dose,” (10 CFR 20.2104(b) and 10 CFR 20.2104(e)(2)) specify the requirements for obtaining prior occupational dose information, 10 CFR 20.2105, “Records of Planned Special Exposures,” and 10 CFR 20.2106, “Records of Individual Monitoring Results,” specify the requirements for exposure and monitoring records applicable to PSEs. The requirements for reporting PSEs appear in 10 CFR 20.2202, “Notification of Incidents” (10 CFR 20.2202(e)) and 10 CFR 20.2204, “Reports of Planned Special Exposures.”

II. Further Information

In December 2009, DG-8032 was published with a public comment period of 60 days from the issuance of the guide. Staff's responses to public comments were received and are located in the NRC's Agencywide Documents Access and Management System (ADAMS), under Accession No. ML101370019. The public comment period closed on March 11, 2010. The regulatory analysis may be found in ADAMS under Accession No. ML101370119.

Electronic copies of Regulatory Guide 8.35, Revision 1 are available through the NRC's public Web site under “Regulatory Guides” at http://www.nrc.gov/reading-rm/doc-collections/.

In addition, regulatory guides are available for inspection at the NRC's Public Document Room (PDR) located at Room O-1F21, One White Flint North, 11555 Rockville Pike, Rockville, Maryland 20852-2738. The PDR's mailing address is USNRC PDR, Washington, DC 20555-0001. The PDR can also be reached by telephone at (301) 415-4737 or (800) 397-4209, by fax at (301) 415-3548, and by e-mail to pdr.resource@nrc.gov.

Regulatory guides are not copyrighted, and NRC approval is not required to reproduce them.

Dated at Rockville, Maryland, this 20th day of August, 2010.
For the Nuclear Regulatory Commission.
Mark P. Orr,
Acting Chief, Regulatory Guide Development Branch, Division of Engineering, Office of Nuclear Regulatory Research.

[FR Doc. 2010-21517 Filed 8-27-10; 8:45 am]

BILLING CODE 7590-01-P